DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 13, 2016. Address written comments to Statutory Import Programs Staff, Room 3720, U.S. Department of Commerce, Washington, DC 20230. Applications may be examined between 8:30 a.m. and 5:00 p.m. at the U.S. Department of Commerce in Room 3720.

Docket Number: 15-051. Applicant: Iowa State University of Science and Technology, 211 TASF, Ames, IA 50011-3020. Instrument: Electron Microscope. Manufacturer: FEI, Co., Czech Republic and Great Britain. Intended Use: The instrument will be used to perform microstructure examination, compositional analysis and orientation analysis on materials such as metals, compounds, alloys, oxides and organic materials. Justification for Duty-Free Entry: There are no instruments of the same general category manufactured in the United States. Application accepted by Commissioner of Customs: April 13, 2016.

Docket Number: 15-055. Applicant: Rutgers University, 136 Frelinghuysen Road, Piscataway, NJ 08854. Instrument: Optical Floating Zone Furnace. Manufacturer: Crystal Systems Corporation, Japan. Intended Use: The instrument will be used to grow high quality bulk single crystals of a variety of complex quantum materials including multiferroics, ferroelectrics and low-symmetry magnets. Research projects will include the duality between FR and PUA states in hexagonal manganites, the duality between Ising triangular antiferromagnetism and improper ferroelectricity in hexagonal systems, the domains and domain walls in other polar or chiral magnets, the domains and domain walls in new hybrid improper ferroelectrics, the domains and domain walls in metastable phases at the phase boundaries, and magnetic skyrmion in non-centrosymmetric magnets. The instrument is equipped with 5 high power (1000 W in total) continuous wavelength laser diodes as a heating source. Five lasers ensure temperature homogeneity along the azimuthal direction around the crystal rod to be greater than 95%. The maximum temperature gradient along the growth direction is greater than 150 degrees Celsius/mm. Crystal growth can go from extremely stable and slow growth to very rapid quenching mode, 0.01 to 300 mm/h. This enables the growth of incongruently melting and highly evaporating materials. Justification for Duty-Free Entry: There are no instruments of the same general category manufactured in the United States. Application accepted by Commissioner of Customs: April 29, 2016.

Docket Number: 15-058. Applicant: UChicago Argonne, 9700 South Cass Avenue, Lemont, IL 60439-4873. Instrument: IEX ARPES Cryo-Manipulator. Manufacturer: Omnivac, Hansjoerg Ruppender, Germany. Intended Use: The instrument will be used to cool and position single crystal and thin film samples in an angle-resolved photoemission spectroscopy (ARPES) chamber. ARPES is used to map the electronic band structure of material. Samples include high-temperature superconductors, graphene, and other low dimensional materials, metals and complex oxides. The instrument's unique features include ultra-high vacuum compatible, six-axes of motion with a specified range x: +/- 10mm, 1µm, +/- 0.05µm, y: +/- 10mm, 1µm, +/- 0.05µm, z: 300mm, 1µm, +/- 0.05µm, polar rotation: 360 degrees, 0.005 degrees, 0.0001 degrees, flip rotation: -15/+60 degrees, .1 degree, 0.05 degrees, azimuthal rotation: +/-90 degrees, .1 degree, 0.05 degrees, a low base temperature of 5.5K and high vibrational stability (motion at the sample < 500 nm). Justification for Duty-Free Entry: There are no instruments of the same general category manufactured in the United States. Application accepted by Commissioner of Customs: March 2, 2016.

Docket Number: 16-003. Applicant: Oregon Health & Science University, 3181 SW Sam Jackson Park Road, Portland, OR 97239. Instrument: Electron Microscope. Manufacturer: FEI Company, the Netherlands. Intended Use: The instrument will be used to study how genomic features in model systems and humans encode the molecular, cellular and tissue structures that comprise normal and diseased tissues and apply the resulting information to improve management of human diseases including cancer, cardiovascular disease, immunodeficiency and dementia. Justification for Duty-Free Entry: There are no instruments of the same general category manufactured in the United States. Application accepted by Commissioner of Customs: April 15, 2016.

Docket Number: 16-006. Applicant: Texas Southwestern Medical Center, 5323 Harry Hinos Blvd., Dallas, TX 75390. Instrument: Electron Microscope. Manufacturer: FEI Company, the Netherlands. Intended Use: The instrument will be used to learn how imaged proteins and molecules perform their cellular functions, which can be used to understand cases where these proteins and molecules malfunction and cause disease, such as cancer. Justification for Duty-Free Entry: There are no instruments of the same general category manufactured in the United States. Application accepted by Commissioner of Customs: May 6, 2016.

Docket Number: 16-009. Applicant: Stanford University, 299 Campus Drive West, Stanford, CA 94305-5126. Instrument: Electron Microscope. Manufacturer: FEI Company, Netherlands. Intended Use: The instrument will be used to determine the structures of proteins and protein complexes to atomic (3.5 angstroms+) or near atomic (10 angstroms+) resolution. Determining the structures to such high resolution will give insight into the basic biology of systems such as tissue samples, whole cells and purified proteins. Justification for Duty-Free Entry: There are no instruments of the same general category manufactured in the United States. Application accepted by Commissioner of Customs: March 2, 2016.

Dated: May 16, 2016.
Gregory W. Campbell,
Director of Subsidies Enforcement, Enforcement and Compliance.

[FR Doc. 2016-12176 Filed 5-23-16; 8:45 am]

BILLING CODE 3510-DS-P